DEPARTMENT OF HOMELAND SECURITY

Federal Emergency Management Agency

[Docket ID: FEMA-2012-0015; OMB No. 1660-0131]

Agency Information Collection Activities: Submission for OMB Review; Comment Request, State Preparedness Report

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before July 25, 2012.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: State Preparedness Report.

Type of information collection: Extension, without change, of a previously approved collection.

OMB Number: 1660-0131.

Form Titles and Numbers: None.

Abstract: This State Preparedness Report is a Web-based survey that is combined with the National Incident Management System Compliance Assessment Support Tool (NIMSCAST) that will be used to respond to the congressional mandate for the Federal Emergency Management Agency (FEMA), to conduct nationwide assessments of emergency preparedness.

Affected Public: State, Local and Tribal Governments.

Estimated Number of Respondents: 56.

Estimated Total Annual Burden Hours: 3696.

Estimated Cost: There are no recordkeeping, capital, start-up or maintenance costs associated with this information collection.

Dated: June 18, 2012.
Charlene D. Myrthil,
Director, Records Management Division, Mission Support Bureau, Federal Emergency Management Agency, Department of Homeland Security.

[FR Doc. 2012-15464 Filed 6-22-12; 8:45 am]

BILLING CODE 9111-46-P